DEPARTMENT OF THE INTERIOR

National Park Service

[NPS-WASO-NAGPRA-NPS0040481; PPWOCRADN0-PCU00RP14.R50000]

Notice of Inventory Completion: University of Alabama at Birmingham, Birmingham, AL

AGENCY: National Park Service, Interior.

ACTION: Notice.

SUMMARY: In accordance with the Native American Graves Protection and Repatriation Act (NAGPRA), the University of Alabama at Birmingham has completed an inventory of human remains and associated funerary objects and has determined that there is a cultural affiliation between the human remains and associated funerary objects and Indian Tribes or Native Hawaiian organizations in this notice.

DATES: Repatriation of the human remains and associated funerary objects in this notice may occur on or after August 11, 2025.

ADDRESSES: Send written requests for repatriation of the human remains and associated funerary objects in this notice to Dr. Lauren Downs, University of Alabama at Birmingham, Department of Anthropology, UH 3165, 1720 2nd Avenue South, Birmingham, AL 35294, email nagprastaff@uab.edu.

SUPPLEMENTARY INFORMATION: This notice is published as part of the National Park Service's administrative responsibilities under NAGPRA. The determinations in this notice are the sole responsibility of the University of Alabama at Birmingham, and additional information on the determinations in this notice, including the results of consultation, can be found in its inventory or related records. The National Park Service is not responsible for the determinations in this notice.

Abstract of Information Available

Human remains representing, at least, eight individuals have been identified. The 1,247 associated funerary objects include 41 faunal remain fragments, one ceramic effigy, 60 lithic objects, 993 pottery sherds, one historic ceramic sherd, seven pottery discoidals, one stone discoidal, 44 fragments of daub, 89 pieces of shell, three pieces of red ochre, six lots of charcoal, and one organic seed. Site 1Ds1, Durant Bend, is located in Dallas County, AL, on the edge of the Alabama River. The site was excavated in 1970 by Dr. C. Roger Nance from the University of Alabama at Birmingham. Dr. Nance returned to the site in 1972; these 1972 excavations were reported to have occurred at site 1Ds202. However, site name 1Ds202 is considered to be a synonym for 1Ds1. Excavations at the site were conducted in the east midden and two unprovenienced localities. The human remains and associated funerary objects that were removed from the site during these excavations were then housed in the University of Alabama at Birmingham's Department of Anthropology archaeology collections space. Site occupation dates to the Middle/Late Woodland (300 BC-A.D. 1000) and Late Mississippian and/or Historic periods (A.D. 1300-1700). Burials from the site date to approximately A.D. 1500-1700. No known hazardous substances were used to treat any of the human remains or associated belongings.

Cultural Affiliation

Based on the information available and the results of consultation, cultural affiliation is reasonably identified by the geographical location or acquisition history of the human remains and associated funerary objects described in this notice.

Determinations

The University of Alabama at Birmingham has determined that:

• The human remains described in this notice represent the physical remains of eight individuals of Native American ancestry.

• The 1,247 objects described in this notice are reasonably believed to have been placed intentionally with or near individual human remains at the time of death or later as part of the death rite or ceremony.

• There is a connection between the human remains and associated funerary objects described in this notice and the Alabama-Coushatta Tribe of Texas; Mississippi Band of Choctaw Indians; Poarch Band of Creek Indians; Seminole Tribe of Florida; The Choctaw Nation of Oklahoma; The Muscogee (Creek) Nation; and the Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 11, 2025. If competing requests for repatriation are received, the University of Alabama at Birmingham must determine the most appropriate requestor prior to repatriation. Requests for joint repatriation of the human remains and associated funerary objects are considered a single request and not competing requests. The University of Alabama at Birmingham is responsible for sending a copy of this notice to the Indian Tribes and Native Hawaiian organizations identified in this notice and any other consulting parties.

Authority: Native American Graves Protection and Repatriation Act, 25 U.S.C. 3003, and the implementing regulations, 43 CFR 10.10.

Dated: June 25, 2025.
Melanie O'Brien,
Manager, National NAGPRA Program.

[FR Doc. 2025-12834 Filed 7-9-25; 8:45 am]

BILLING CODE 4312-52-P